DEPARTMENT OF THE INTERIOR

National Park Service

Notice of Inventory Completion: U.S. Department of Agriculture, Forest Service, Tongass National Forest, Chatham Area, Juneau, AK

AGENCY: National Park Service, Interior.

ACTION: Notice.

Notice is here given in accordance with the Native American Graves Protection and Repatriation Act (NAGPRA), 25 U.S.C. 3003, of the completion of an inventory of human remains and associated funerary objects in the possession of the U.S. Department of Agriculture, Forest Service, Tongass National Forest, Chatham Area, Juneau, AK. The human remains and associated funerary objects were removed from sites near Yakutat, Southeast Alaska.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by U.S. Department of Agriculture, Forest Service professional staff in consultation with representatives of the Central Council of the Tlingit & Haida Indian Tribes; Sealaska Corporation; Sealaska Heritage Foundation; Yak-Tat Kwaan, Incorporated; and Yakutat Tlingit Tribe.

In 1988, human remains representing a minimum of five individuals were removed from Shallow Water Town near Yakutat, AK, during an excavation by the U.S. Department of Agriculture, Forest Service (49 YAK 020). The excavation was part of a mitigation plan for the anticipated flooding which was to occur with the blocking of Russell Fjord by the Hubbard Glacier. Blockage of the Fjord was anticipated to force the Situk River to flood the valley bottom and wash out the site. No known individuals were identified. The six associated funerary objects are one bone button fragment and a minimum of five melted blue glass beads.

The human remains represent five separate cremations, and are assumed to be five separate individuals. The individuals are reasonably believed to be Yakutat Tlingit because the area is the traditional territory of the Teqwedi, specifically the Bear House Clan. Oral traditions of the Yakutat Tlingit confirm their affiliation with this site. Descendants of the Yakutat Tlingit are members of the Yakutat Tlingit Tribe. A charcoal sample associated with Cremation 1 was radiocarbon dated to 250 60 BP, which yields a corrected date of A.D. 1480 to 1955. The carbon date for Cremation 5 of 270 70 BP yields a corrected date of A.D. 1450 to 1955.

In 1988, human remains representing a minimum of one individual were removed from Diyaguna'Et near Yakutat, AK, by the U.S. Department of Agriculture, Forest Service (49 YAK 019). The excavation was part of a mitigation plan for the anticipated flooding which was to occur with the blocking of Russell Fjord by the Hubbard Glacier. Blockage of the Fjord was anticipated to force the Situk River to flood the valley bottom and wash out the site. No known individual was identified. The four associated funerary objects are one white glass bead, one rolled copper earring, and two rolled copper earrings entwined by black human hair.

The human remains were determined to be Native American based on observable dental traits. The individual is reasonably believed to be Yakutat Tlingit, as the area is the traditional territory of the Teqwedi, specifically the Bear House Clan. Oral traditions of the Yakutat Tlingit confirm their affiliation with this site. Descendants of the Yakutat Tlingit are members of the Yakutat Tlingit Tribe. Charcoal samples taken from above and below the skeletal remains were dated and determined to be 130 50 BP (calibrated to A.D. 1650 to 1950) and 380 100 BP (calibrated to A.D. 1329 to 1955).

Officials of the U.S. Department of Agriculture, Forest Service have determined that, pursuant to 25 U.S.C. 3001 (9-10), the human remains described above represent the physical remains of six individuals of Native American ancestry. Officials of the U.S. Department of Agriculture, Forest Service also have determined that, pursuant to 25 U.S.C. 3001 (3)(A), the 10 objects described above are reasonably believed to have been placed with or near individual human remains at the time of death or later as part of the death rite or ceremony. Lastly, officials of the U.S. Department of Agriculture, Forest Service have determined that, pursuant to 25 U.S.C. 3001 (2), there is a relationship of shared group identity that can be reasonably traced between the Native American human remains and associated funerary objects and the Yakutat Tlingit Tribe.

Representatives of any other Indian tribe that believes itself to be culturally affiliated with the human remains and associated funerary objects should contact Forrest Cole, Forest Supervisor, Tongass National Forest, Federal Building, Ketchikan, AK 99901-6591, telephone (907) 225-6200, before August 6, 2009. Repatriation of the human remains and associated funerary objects to the Yakutat Tlingit Tribe may proceed after that date if no additional claimants come forward.

The U.S. Department of Agriculture, Forest Service is responsible for notifying the Central Council of Tlingit & Haida Indian Tribes; Sealaska Corporation; Sealaska Heritage Foundation; Yak-Tat Kwaan, Incorporated; and Yakutat Tlingit Tribe that this notice has been published.

Dated: June 15, 2009
Sherry Hutt,
Manager, National NAGPRA Program.

[FR Doc. E9-16024 Filed 7-6-09; 8:45 am]

BILLING CODE 4312-50-S